DEPARTMENT OF TRANSPORTATION

Federal Highway Administration

[Docket No. FHWA-2014-0028]

Agency Information Collection Activities: Request for Comments for the Renewal of a Previously Approved Information Collection

AGENCY: Federal Highway Administration (FHWA), DOT.

ACTION: Notice and request for comments.

SUMMARY: In compliance with the Paperwork Reduction Act (PRA) of 1995 (44 U.S.C. 3501-3521), this notice announces that FHWA will submit the collection of information described below to the Office of Management and Budget (OMB) for review and comment. The Federal Register Notice with a 60-day comment period soliciting comments on the following collection of information was published on June 5, 2014. The PRA submission describes the nature of the information collection and its expected cost and burden.

DATES: Please submit comments by September 5, 2014.

ADDRESSES: You may submit comments identified by DOT Docket ID 2014-0028 by any of the following methods:

Web site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Ann Shemaka, 202-366-1575, Office of Bridge Technology, Federal Highway Administration, Department of Transportation, 1200 New Jersey Avenue SE., Washington, DC 20590, Monday through Friday, except Federal holidays.

SUPPLEMENTARY INFORMATION:

Title: National Bridge Inspection Program.

Background: This collection is necessary to meet legislative requirements of Title 23 United States Code section 144, and the Code of Federal Regulations, 23 Highways Part 650, Subpart C—National Bridge Inspection Standards which require States, Federal Agencies, and Tribal Governments to: (1) Perform and report inventory data from routine inspections, fracture critical inspections, and underwater inspections on all highway bridges on public roads, and element level inspections on highway bridges on the National Highway System; (2) report costs associated with the replacement of structurally deficient bridges; and (3) follow up on critical findings. The bridge inspection and replacement cost information that is provided to the FHWA is on an annual basis. The critical findings information is periodically provided to the FHWA. The bridge information is used for multiple purposes, including: (1) The determination of the condition of the Nation's bridges which is included in a biennial report to Congress on the Status of the Nation's Bridges; (2) for a report to the Committee on Transportation and Infrastructure of the House of Representatives and the Committee on Environment and Public Works of the Senate on the Nation's bridge inventory; (3) the data source for executing various sections of the Federal-aid program which involve highway bridges; (4) the data source for assessing the bridge penalty provisions of Title 23 United States Code section 119; and (5) for strategic national defense needs.

Respondents: 52 State highway agencies including the District of Columbia and Puerto Rico, Federal Agencies, and Tribal Governments. The number of inspections per respondent varies in accordance with the National Bridge Inspection Standards.

Estimated Average Burden per Response: The estimated average burden for each bridge inspection is 8 hours. The estimated average burden for each element level inspection is 25 minutes. The estimated average burden for each cost collection report is 90 hours. The estimated average burden for follow up on critical findings is 40 hours.

Estimated Total Annual Burden Hours: The annual burden hours associated with this renewal is 2,490,118 hours. This estimated figure is based on 306,800 annual instances for routine, fracture critical, and underwater inspections multiplied by 8 hours (2,454,400 hours); plus 69,500 annual element inspections multiplied by 25 minutes (28,958 hours); plus 90 hours for each cost report multiplied by 52 reports (4,680 hours); plus 40 hours for follow up on critical findings multiplied by 52 respondents (2,080 hours) for a combined annual burden of 2,490,118 hours.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: August 1, 2014.
Michael Howell,
Information Collection Officer.

[FR Doc. 2014-18655 Filed 8-5-14; 8:45 am]

BILLING CODE 4910-22-P